DEPARTMENT OF AGRICULTURE

Forest Service

Plumas National Forest; California; Stream Fire Restoration Project

AGENCY: Forest Service, USDA.

ACTION: Revised Notice of Intent.

The following sentence was inadvertently left out of the NOI published on August 9, 2002 (67 FR 51816).

DATES: The final EIS is expected to be published in March 2003.

[No other changes are made.]

Dated: August 22, 2002.
Robert G. MacWhorter,
Acting Forest Supervisor.

[FR Doc. 02-22126 Filed 8-29-02; 8:45 am]

BILLING CODE 3410-11-M